ENVIRONMENTAL PROTECTION AGENCY

40 CFR Parts 2 and 51

[EPA-HQ-OAR-2004-0489; FRL-8604-03-OAR]

Revisions to the Air Emissions Reporting Requirements

AGENCY: Environmental Protection Agency (EPA).

ACTION: Reopening of information collection request (ICR 2170.09) comment period.

SUMMARY: The Environmental Protection Agency (EPA) is reopening the comment period for the Information Collection Request (ICR) number 2170.09, for the proposed Air Emissions Reporting Requirements (AERR), published in the Federal Register on August 9, 2023. The EPA is reopening the comment period on this ICR to October 18, 2023.

DATES: The comment period for the ICR published on August 9, 2023 at 88 FR 54118 is reopened. Comments must be received on or before October 18, 2023.

ADDRESSES: Submit your comments, identified by Docket ID No. EPA-HQ-OAR-2004-0489, by one of the following methods:

• www.regulations.gov: Follow the online instructions for submitting comments.

• Email: a-and-r-docket@epa.gov. Fax: (202) 566-9744.

• Mail: Air Emissions Reporting Requirements Rule, Docket No. EPA-HQ-OAR-2004-0489, Environmental Protection Agency, Mailcode: 2822T, 1200 Pennsylvania Ave. NW, Washington, DC 20460. Please include two copies.

• Hand Delivery: Docket No. EPA-HQ-OAR-2004-0489, EPA Docket Center, Public Reading Room, EPA West, Room 3334, 1301 Constitution Ave. NW, Washington, DC 20460. Such deliveries are only accepted during the Docket's normal hours of operation, and special arrangements should be made for deliveries of boxed information.

Instructions: All submissions received must include the Docket ID No. for this rulemaking. Comments received may be posted without change to https://www.regulations.gov/, including any personal information provided.

FOR FURTHER INFORMATION CONTACT: Mr. Marc Houyoux, Office of Air Quality Planning and Standards, Air Quality Assessment Division, Emission Inventory and Analysis Group (C339-02), U.S. Environmental Protection Agency, Research Triangle Park, NC 27711; telephone number: (919) 541-3649; email: NEI_Help@epa.gov (and include “AERR” on the subject line).

SUPPLEMENTARY INFORMATION: On Wednesday August 9, 2023, the EPA published proposed revisions to the Air Emissions Reporting Requirements along with the associated ICR in the Federal Register. The comment period for the AERR ICR was for 30 days, ending on September 8, 2023. The EPA received a comment ¹ requesting that the Agency extend the comment period for the ICR to match the comment period for the proposed action, which ends October 18, 2023. To ensure the public has sufficient time to review the ICR in conjunction with the associated proposed action, the EPA is reopening the comment period as requested by the commenter.

¹ See submission https://www.regulations.gov/comment/EPA-HQ-OAR-2004-0489-0110.

Dated: September 10, 2023.
James Hemby,
Deputy Director, Air Quality Assessment Division, Office of Air Quality and Planning Standards.

[FR Doc. 2023-19867 Filed 9-13-23; 8:45 am]

BILLING CODE 6560-50-P